DEPARTMENT OF COMMERCE

International Trade Administration

[A-580-816]

Certain Corrosion-Resistant Carbon Steel Flat Products From the Republic of Korea: Notice of Final Results of the Sixteenth Administrative Review

Correction

In notice document 2011-6566 beginning on page 15291 in the issue of Monday, March 21, 2010, make the following corrections:

On page 15293, in the first column, in the table at the bottom of the page, in the table column labeled “Percent margin”, in the second row, “ᵃ9.05” should read “ᵃ0.05”.

On the same page, in the same table, in the same column, in the fifth row, “3.0%” should read “3.01”.

[FR Doc. C1-2011-6566 Filed 3-28-11; 8:45 am]

BILLING CODE 1505-01-D